DEPARTMENT OF AGRICULTURE

Animal and Plant Health Inspection Service

[Docket No. 04-040-2]

Old World Climbing Fern; Availability of an Environmental Assessment and Finding of No Significant Impact

AGENCY: Animal and Plant Health Inspection Service, USDA.

ACTION: Notice.

SUMMARY: We are advising the public that an environmental assessment and finding of no significant impact have been prepared by the Animal and Plant Health Inspection Service relative to issuing a permit for the environmental release of the nonindigenous moth Cataclysta camptozonale (Hampson) (Lepidoptera: Crambidae), a potential biological control agent of Old World climbing fern (Lygodium microphyllum). The environmental assessment documents our review and analysis of environmental impacts associated with, and alternatives to, issuing a permit for the environmental release of the moth in Florida. Based on its finding of no significant impact, the Animal and Plant Health Inspection Service has determined that an environmental impact statement need not be prepared.

ADDRESSES: Copies of the environmental assessment and finding of no significant impact are available for public inspection in our reading room. The reading room is located in room 1141 of the USDA South Building, 14th Street and Independence Avenue SW., Washington, DC. Normal reading room hours are 8 a.m. to 4:30 p.m., Monday through Friday, except holidays. To be sure someone is there to help you, please call (202) 690-2817 before coming.

FOR FURTHER INFORMATION CONTACT: Dr. Robert Flanders, Branch Chief, Biological and Technical Service, Pest Permit Evaluations, PPQ, APHIS, 4700 River Road Unit 133, Riverdale, MD 20737-1236; (301) 734-5930.

SUPPLEMENTARY INFORMATION:

Background

Old World climbing fern, Lygodium microphyllum (Cav.) R. Br. (Lygodiaceae), is a climbing fern that has a large native range that extends through much of the Old World tropics. It has become established in central and southern peninsular Florida where it grows in a number of wetland and mesic (having a moderate supply of moisture) habitats including hammocks, cypress swamps, flatwoods, bayheads, and disturbed sites.

The climbing fern is a highly invasive, exotic weed that climbs over plants, including tall trees, to form massive walls of vegetation. It also forms thick mats on the ground that smother native plants. New infestations can arise great distances from existing populations because the weed produces millions of spores that are spread by wind and other physical carriers. A single spore is capable of starting a new infestation.

In Florida, the potential distribution of this weed includes all habitats from Lake Okeechobee south. It also has the potential to invade the Gulf Coast of Mexico and southern Texas.

On July 1, 2004, we published in the Federal Register (69 FR 39894-39895, Docket No. 04-040-1) a notice in which we announced the availability, for public review and comment, of an environmental assessment documenting our review and analysis of environmental impacts associated with issuing a permit for the release of the nonindigenous moth Cataclysta camptozonale (Hampson) (Lepidoptera: Crambidae) as a biological control agent of Old World climbing fern in the State of Florida. Larvae of the moth feed on the leaves of L. microphyllum for approximately 11 to 12 days and older larvae spin a loose web of silk on leaves of the weed and pupate. Research suggests that the moth is host specific to only a few Lygodium species. Alternatives to issuing the permit were also examined in the environmental assessment, and included no action, herbicides, mechanical control, and flooding.

We solicited comments on the environmental assessment for 30 days ending on August 2, 2004. We received five comments by that date. Four of the commenters supported the recommendations of the environmental assessment. The fifth commenter objected to APHIS' performance and programs in general, but did not address the environmental assessment. Therefore, we are making no changes to the environmental assessment in response to this comment.

The environmental assessment and finding of no significant impact may be viewed on the Internet at http://www.aphis.usda.gov/ppq/. In the middle of that page, click on “Document/Forms Retrieval System.” At the next screen, click on the triangle beside “Permits—Environmental Assessments.” A list of documents will appear; the environmental assessment and finding of no significant impact for Old World climbing fern are document number 0038. You may request paper copies of the environmental assessment and finding of no significant impact by calling or writing to the person listed under FOR FURTHER INFORMATION CONTACT. Please refer to the title of the environmental assessment and finding of no significant impact when requesting copies. The environmental assessment and finding of no significant impact are also available for review in our reading room (information on the location and hours of the reading room is listed under the heading ADDRESSES at the beginning of this notice).

The environmental assessment and finding of no significant impact have been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1), and (4) APHIS' NEPA Implementing Procedures (7 CFR part 372).

Done in Washington, DC, this 28th day of September 2004 .
Elizabeth E. Gaston,
Acting Administrator, Animal and Plant Health Inspection Service.

[FR Doc. E4-2472 Filed 10-1-04; 8:45 am]

BILLING CODE 3410-34-P